DEPARTMENT OF ENERGY

Federal Energy Regulatory Commission

[Docket No. MT01-5-000]

Pine Needle LNG Company, LLC; Notice of Compliance Filing

September 14, 2001.

Take notice that on August 31, 2001, Pine Needle LNG Company, LLC. (Pine Needle) tendered for filing a revised Code of Conduct and First Revised Sheet No. 88 pursuant to the marketing affiliate regulations as modified in Order No. 637. Pine Needle requests that the Commission order the tariff sheet be made effective on October 1, 2001.

Pine Needle states that copies of its filing has been served to all affected customers, interested state commissioners and other interested parties.

Any person desiring to be heard or to protest said filing should file a motion to intervene or a protest with the Federal Energy Regulatory Commission, 888 First Street, NE, Washington, DC 20426, in accordance with Sections 385.214 or 385.211 of the Commission's Rules and Regulations. All such motions or protests must be filed on or before September 21, 2001. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-23517 Filed 9-19-01; 8:45 am]

BILLING CODE 6717-01-P